DEPARTMENT OF VETERANS AFFAIRS

Secretary of Veterans Affairs Advisory Committee Chairs Summit; Notice of Meeting

The Department of Veterans Affairs (VA) gives notice under the Federal Advisory Committee Act, 5 U.S.C. App. 2 that the Secretary of Veterans Affairs will host a Secretary of Veterans Affairs Advisory Committee Chairs Summit on March 13, 2015, at the Department of Veterans Affairs Central Office, 810 Vermont Avenue NW., Washington, DC. The Summit will be held in the Sonny Montgomery Conference Room 230 and will convene at 11:00 a.m. and adjourn at 12:30 p.m. The meeting is open to the public. Anyone attending must show a valid photo ID to building security and be escorted to the meeting. Please allow 15 minutes before the meeting begins for this process.

The purpose of the Summit is to enhance the trusting relationship between the Secretary and VA's Advisory Committee Chairs, which is built on collaboration, I-Care, and the Secretary's vision of MyVA.

The group will feature remarks from the Secretary and discussion with him and the Committee Chairs. Attendees will include VA's Chief of Staff and other senior leadership as well as the Designated Federal Officer of each Committee. The discussion will focus on strategic advisory committee complexities, such as producing reasonable and actionable recommendations.

Although there will be no time for public comment at the meeting, interested individuals may submit a 1-2 page statement through March 27, 2015, to Jeffrey Moragne, Director, Advisory Committee Management Office (00AC), 810 Vermont Avenue NW., Washington, DC 20420, or by email at VA.Advisory.Cmte@va.gov. Any member of the public seeking additional information should contact Mr. Moragne at (202) 266-4660.

Dated: January 15, 2015.
Rebecca Schiller,
Federal Advisory Committee Management Officer.

[FR Doc. 2015-00887 Filed 1-20-15; 8:45 am]

BILLING CODE 8320-01-P